DEPARTMENT OF HEALTH AND HUMAN SERVICES

Food and Drug Administration

21 CFR Part 225

[Docket No. FDA-2013-N-0002]

Current Good Manufacturing Practice for Medicated Feeds

AGENCY: Food and Drug Administration, HHS.

ACTION: Final rule, correcting amendment.

SUMMARY: The Food and Drug Administration (FDA) is amending the regulations for good manufacturing practice of animal feeds containing a new animal drug to correctly cite the applicable section of the Federal Food, Drug, and Cosmetic Act (FD&C Act). This action is being taken to improve the accuracy of the regulations.

DATES: This rule is effective January 23, 2014.

FOR FURTHER INFORMATION CONTACT: George K. Haibel, Center for Veterinary Medicine (HFV-6), Food and Drug Administration, 7519 Standish Pl., Rockville, MD 20855, 240-276-9019, ghaibel@fda.hhs.gov.

SUPPLEMENTARY INFORMATION: FDA has noticed the regulations for good manufacturing practice of animal feeds containing a new animal drug do not correctly cite the applicable section of the FD&C Act. At this time, FDA is making a correcting amendment in 21 CFR 225.1. This action is being taken to improve the accuracy of the regulations.

List of Subjects in 21 CFR Part 225

Animal drugs, Animal feeds, Labeling, Packaging and containers, Reporting and recordkeeping requirements.

Therefore, under the Federal Food, Drug, and Cosmetic Act and under authority delegated to the Commissioner of Food and Drugs, 21 CFR part 225 is amended as follows:

PART 225—CURRENT GOOD MANUFACTURING PRACTICE FOR MEDICATED FEEDS

1. The authority citation for 21 CFR part 225 continues to read as follows:

Authority: 21 U.S.C. 351, 352, 360b, 371, 374.

§ 225.1 [Amended]

2. In § 225.1, in the last sentence in paragraph (b)(1), remove “section 402(a)(2)(D) of the act” and in its place add “section 402(a)(2)(C)(ii) of the act”.

Dated: January 16, 2014.
Leslie Kux,
Assistant Commissioner for Policy.

[FR Doc. 2014-01299 Filed 1-22-14; 8:45 am]

BILLING CODE 4160-01-P